DEPARTMENT OF TRANSPORTATION

Pipeline and Hazardous Materials Safety Administration

[Docket No. PHMSA-2013-0124, Notice No. 13-7]

Paperless Hazard Communications Pilot Program

AGENCY: Pipeline and Hazardous Materials Safety Administration (PHMSA), DOT.

ACTION: Notice and request for comments.

SUMMARY: PHMSA invites volunteers for a pilot program to evaluate the effectiveness of paperless hazard communications systems and comments on an information collection activity associated with the pilot program. “Moving Ahead for Progress in the 21st Century Act” (MAP-21) authorizes PHMSA to conduct a pilot program to evaluate the feasibility and effectiveness of using paperless hazard communications systems. In accordance with MAP-21, in conducting the pilot projects, PHMSA may not waive the current shipping paper requirements. In addition, MAP-21 indicates that PHMSA must consult with organizations representing fire and other emergency responders, law enforcement, and regulated entities. Upon completion of the pilot projects, PHMSA must evaluate the feasibility and effectiveness of paperless hazard communications systems and make a recommendation to Congress regarding regulatory changes that would permanently authorize the use of paperless hazard communications systems. The report is due to Congress by October 1, 2014. The intent of this notice is to: (1) Describe the current regulatory requirements for shipping papers; (2) describe authority granted under MAP-21; (3) explain the goal, scope, and intent of the pilot program; (4) seek volunteers to participate in the pilot projects and describe criteria for selecting pilot participants from the volunteers; and (5) seek comment on the request for information to be collected in conducting the pilot projects and in consulting with organizations representing fire and other emergency responders, law enforcement, and regulated entities. Information gathered will enable PHMSA to generate a report to Congress detailing: (1) The performance of each paperless hazard communications system tested during the pilot projects; (2) PHMSA's assessment of the safety and security impacts on stakeholders; (3) the associated costs and benefits; and (4) PHMSA's regulatory recommendation(s).

DATES: Interested persons are invited to submit comments on or before September 17, 2013.

ADDRESSES: You may submit comments, and statements of interest to volunteer, identified by the docket number (PHMSA-2013-0124) by any of the following methods:

• Federal eRulemaking Portal: http://www.regulations.gov. Follow the online instructions for submitting comments.

• FAX: 1-202-493-2251.

• Mail: Docket Management System, U.S. Department of Transportation, Docket Operations, Routing Symbol M-30, West Building, Ground Floor, Room W12-140, 1200 New Jersey Avenue SE., Washington, DC 20590.

• Hand Delivery: Docket Operations, West Building, Ground Floor, Room W12-140, 1200 New Jersey Avenue SE., Washington, DC 20590, from 9:00 a.m. to 5:00 p.m., Monday through Friday, except Federal holidays.

Instructions: All submissions must include the agency name and docket number for this notice at the beginning of the comment. To avoid duplication, please use only one of these four methods. All comments received will be posted without change to http://www.regulations.gov and will include any personal information you provide.

Docket: For access to the dockets to read background documents or comments received, go to http://www.regulations.gov or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.gpo.gov/fdsys/pkg/FR-2000-04-11/pdf/00-8505.pdf

FOR FURTHER INFORMATION CONTACT: James O. Simmons, U.S. Department of Transportation, Engineering and Research Division (PHH-23), Pipeline and Hazardous Materials Safety Administration, 1200 New Jersey Avenue SE., East Building, 2nd Floor, Washington, DC 20590-0001, Telephone (202) 366-4545. Requests for a copy of the information collection should be directed to T. Glenn Foster, U.S. Department of Transportation, Standards and Rulemaking Division (PHH-12), Pipeline and Hazardous Materials Safety Administration, 1200 New Jersey Avenue SE., East Building, 2nd Floor, Washington, DC 20590-0001, Telephone (202) 366-8553.

SUPPLEMENTARY INFORMATION: Section 1320.8 (d), Title 5, Code of Federal Regulations (CFR) requires that PHMSA provide interested members of the public and affected agencies an opportunity to comment on information collection and recordkeeping requests. This notice identifies an information collection activity PHMSA is undertaking to evaluate the effectiveness of a paperless hazard communications pilot program authorized under Title III, Section 33005, of the Hazardous Materials Transportation Safety Improvement Act of 2012 (H.R. 4348), also referenced as the “Moving Ahead for Progress in the 21st Century Act” (H.R. 4348, “MAP-21”). This notice also seeks volunteers (shippers, carriers, law enforcement, and emergency response personnel) who are interested in participating in the pilot projects. The pilot projects and the information collection activity identified in this notice have been designed to ensure full collaboration with modal administrations, law enforcement personnel, fire services and emergency response providers, and regulated entities (shippers and carriers who transport hazardous materials by air, highway, rail, and water) to test the feasibility and then evaluate both the feasibility and effectiveness of using paperless hazardous materials (e-HM) communications systems (e-systems). The following sections describe the: (1) Current regulatory requirements for shipping papers; (2) authority granted under MAP-21; (3) goal, scope, and intent of the pilot program and request for volunteers to participate in the pilots; (4) criteria used for selecting pilot participants; and (5) request for information to be collected in conducting the pilot projects and in consulting with organizations representing fire and other emergency responders, law enforcement, and regulated entities.

1. History of and Current Regulatory Requirements for Shipping Papers

The Hazardous Materials Regulations (HMR; 49 CFR Parts 171-180) require a person who offers hazardous materials for transportation in commerce to describe the hazardous materials on a shipping paper in the manner required in 49 CFR Part 172, Subpart C. The shipping paper requirements identify key hazard communication information (e.g., UN number, proper shipping name, hazard class, packing group, type and quantity of packaging, and emergency response telephone number). Unless an exception from the shipping paper requirements is provided in the regulations, a paper copy of the shipping paper must accompany a hazardous material during transportation. A shipping paper includes “a shipping order, bill of lading, manifest or other shipping document serving a similar purpose and containing the information required by §§ 172.202, 172.203, and 172.204” (49 CFR 171.8, definition of “shipping paper”). A hazardous waste manifest “may be used as the shipping paper” if it contains all the information required by Part 172, Subpart C (49 CFR 172.205(h)).

In 1994, Congress amended the Federal hazardous materials transportation law (Federal hazmat law) to require that, after a hazardous material “is no longer in transportation,” all offerors and carriers of a hazardous material must retain the shipping paper “or electronic image thereof for a period of 1 year to be accessible through their respective principal places of business” (49 U.S.C. 5110(e), added by Pub. L. 103-311, Title I, § 115, 108 Stat. 1678 (Aug. 26, 1994)). That section also requires that the offeror and carrier “shall, upon request, make the shipping paper available to a Federal, State, or local government agency at reasonable times and locations.”

On September 12, 2001, the Research and Special Programs Administration (the predecessor to PHMSA) issued a notice of proposed rulemaking (NPRM) to amend the HMR to conform with § 5110(e) (66 FR 47443). The 2001 NPRM indicated an electronic image includes an image transmitted by a facsimile (FAX) machine, an image on the screen of a computer, or an image generated by an optical imaging machine. To facilitate compliance with, and enforcement of, the hazardous materials shipping paper requirement, in 2002 PHMSA further amended the HMR regarding the retention and information requirements associated with shipping papers. Amendments included extending the retention period to 375 days; requiring the copy to include the date that the shipment is accepted for transportation by the initial carrier; and requiring that the shipping paper copy or its electronic image be accessible at or through the principal place of business of each person required to prepare or maintain it during transportation. Consideration for allowing the use of electronic communication while hazardous materials are actually in transportation is the next step in the evolution of hazard communication.

The implementation of e-systems has already begun and will evolve if industry determines that investing in technology is economically beneficial for its businesses. Spurred by competitive demands, just-in-time delivery requirements, and the globalization of supply chains, many transportation and logistics industries have embraced modern innovations to communicate. However, the HMR requires the use of a paper copy of the shipping document. The rationale behind a paper-based system is to convey the necessary information in a consistent manner that is widely understood and accepted by all regulated entities, law enforcement, and emergency responders.

2. Authority Granted Under MAP-21

Section 33005 of MAP-21 provided PHMSA the authority to conduct paperless hazard communications pilot projects. PHMSA will conduct the pilot projects to evaluate the feasibility of using e-systems to convey the same information that is contained on a paper copy of a shipping document. MAP-21, Section 33005 states that PHMSA: (1) Cannot waive the current statutory shipping paper requirements, and (2) must consult with organizations representing fire and other emergency responders, law enforcement, and regulated entities. In addition, at least one pilot project must take place in a rural area.

Upon completion of the pilot projects, PHMSA must prepare a report that provides: (1) A detailed description of the pilot projects; (2) an evaluation of each pilot project to include an evaluation of the performance of the e-systems; (3) an assessment of the safety and security impacts of using e-systems to include the impact on the public, emergency responders, law enforcement, and on conducting inspections and investigations; (4) an analysis of the associated benefits and costs of using e-systems for each mode of transportation; and (5) a recommendation whether e-systems should be permanently incorporated into the Federal hazmat regulations. The Secretary shall submit the report to the Committee on Commerce, Science, and Transportation of the U.S. Senate and to the Committee on Transportation and Infrastructure of the U.S. House of Representatives by October 2014, two years after the enactment of the Hazardous Materials Transportation Safety Improvement Act of 2012.

3. Goal, Scope, and Intent of the Pilot Program and Request for Volunteers To Participate in the Pilot Projects

Beginning in 2007, PHMSA initiated actions to implement paperless hazard communications. PHMSA has conducted activities including: (1) Building a cooperative effort between transportation entities and regulatory agencies; (2) publishing a notice on the use of electronic data sharing; (3) conducting stakeholder public meetings to receive feedback on the use of electronic data sharing to communicate hazardous material shipping information; (4) collaborating with the Transportation Research Board on a study on the use of electronic hazardous materials shipping papers; (5) hosting workshops for stakeholders to communicate outreach findings of paperless hazardous communications; and (6) publishing e-HM information papers, which highlight the collective hazardous material transportation community's priorities, gaps, and concerns for implementing paperless hazard communications.

PHMSA strongly believes, through its prior efforts and activities, paperless hazard communication is possible and that this pilot program will demonstrate the capabilities of e-systems. PHMSA has developed a strategy for conducting the pilot projects that will enable PHMSA to evaluate paperless hazard communication systems capabilities from a real-world perspective.

The goal of the paperless hazard communications pilot program is to determine if e-systems are a feasible and effective means of providing hazard communication. In addition, if they are feasible and effective, PHMSA will use the information it gathers to assess the level of safety and security, as well as the associated benefits and costs, of e-systems as compared to the current hazardous materials shipping paper requirements. It is PHMSA's intent that any pilot project (test) conducted under the authority granted by MAP-21 will study the performance, safety and security impacts, and the associated benefits and costs of using e-systems for hazardous materials shipments, without disrupting the normal flow of commerce. During the pilot projects, emergency response providers and law enforcement officials will continue to perform their duties and respective roles according to existing emergency and inspection requirements, procedures, and policies. The emergency responders and law enforcement officials may continue to rely on the written shipping paper, even if companies are operating under a pilot project.

MAP-21 indicates that PHMSA must consider both the feasibility and the effectiveness of paperless hazard communications. Under this pilot program, PHMSA will be collaborating with regulated entities, law enforcement personnel, emergency response providers, and modal administrations to evaluate the feasibility and effectiveness of allowing e-HM communication for hazardous materials shipments. The pilot projects will focus on the use of e-systems:

• While shipping hazardous materials from point of origin to final destination using different transportation conveyances (i.e., trucks, railcars, maritime vessels, and airplanes), and

• During inspections and emergency response simulations.

PHMSA is seeking shippers, carriers, law enforcement personnel, and emergency responders that may be interested in volunteering to participate in the pilot projects. In response to a web posted announcement entitled, “Defining the HM ACCESS Pilot Test,” 64 entities expressed interest in participating. Some of these entities may satisfy the pilot project and MAP-21 qualification criteria and possess the capability and capacity to aid in testing a variety of scenarios. PHMSA strongly encourages the 64 entities that previously expressed interest in participating in the pilot projects to respond to this notice and provide the information identified within this notice. To ensure that we have the broadest range of participation in the pilot projects, PHMSA encourages other interested entities who have not previously expressed an interest in participating to volunteer. PHMSA will evaluate all volunteers (the previous 64 and those who respond to this notice) according to the criteria and qualifications identified in the following section and will select participants that satisfy the pilot test qualification requirements, meet the criteria specified in MAP-21, and are best able to aid in testing a variety of scenarios. Shippers, carriers, law enforcement, and emergency responders interested in participating in the pilot projects should provide statements of interest to the addresses identified in this notice. The statement of interest should include information describing the organization, point(s) of contact (name, title, address, phone, and email), self-identification of stakeholder type (shipper, carrier, law enforcement, or emergency responder), location, and capabilities. It should be noted, however, that responding to this notice does not guarantee selection for participation in the pilot projects.

4. Criteria Used for Selecting Pilot Project Participants

PHMSA intends that any pilot conducted under the authority granted by MAP-21 will study the performance, safety and security impacts, and associated benefits and costs of using e-systems for hazardous materials shipments, without disrupting the normal flow of commerce. Further, hardcopy shipping documents will still be required to accompany each shipment during the pilot projects, in accordance with the HMR.

PHMSA will conduct pilot tests in three, and potentially four, regions of the U.S.: The Northeast, Southeast, Northwest, and Southwest, with at least one pilot test conducted in a rural area within one or more of the regions, as prescribed by MAP-21. PHMSA will focus the pilot tests in geographical regions possessing high concentrations of hazardous materials registrants and presenting historically high numbers of hazardous material incidents resulting in deaths and injuries.

Law Enforcement and Emergency Response Volunteers

Desired law enforcement and emergency responder pilot test participants are those that operate within the regions of the pilot tests and are willing to assist in the collection of information during the tests, as described later in this document.

Shipper and Carrier Volunteers

Desired shipper and carrier pilot test participants are those who offer hazardous materials for transportation and/or transport hazardous materials by a variety of modes and interact with other intermodal carriers for hazardous materials transfers. It is not PHMSA's intention to test vendors of electronic communication technologies or products. To volunteer and be selected as a volunteer, interested shipper and carrier participants will need to ship and/or transport hazardous materials within areas of high concentrations of hazardous materials registrants and hazardous materials incidents. In addition to the regions and modal criteria, potential participants must, at a minimum, satisfy the following requirements:

• Possess e-system(s) capable of managing and communicating the hazardous materials shipping paper information at their own expense,

• Possess their own equipment and personnel and/or contractor resources necessary to transport hazardous materials shipments,

• Be willing to allow, and participate in, inspections and emergency response simulations during the pilot tests,

• Be willing to provide feedback on experiences regarding e-HM communication during the pilot tests, including providing actual e-HM communications data from the pilot tests,

• Be willing to provide information on the basic function and capabilities of their e-system(s),

• Be willing to provide information on administrative, business, training, equipment, and operational-related benefits and costs associated with implementing e-system(s),

• Transport hazardous materials within the targeted test regions of the U.S., and

• Be in good standing with all levels of government and demonstrate compliance with all applicable regulations governing the safe and secure transportation of hazardous materials.

As part of PHMSA's participant evaluation and selection process, each shipper and carrier submitting a statement of interest will need to answer a list of on-line participant questions to verify its qualifications and capabilities. These questions will help PHMSA select those shipper and carrier participants that are best positioned to aid in testing a variety of test scenarios and criteria as specified in MAP-21. PHMSA anticipates the burden on shipper and carrier volunteers will be low and will involve the use of on-line questions (no more than 35 questions) with answers to most questions designed to be “yes,” “no,” or multiple choice.

Shipper and Carrier Participant Questions

PHMSA will publish a 30-day Notice in response to comments received to this 60-day Notice; the 30-day Notice will provide the shipper and carrier questions for those shippers and carriers who express an interest in volunteering in the pilot tests. PHMSA will use these questions to collect the following types of information from each shipper and carrier volunteer:

• Organization's name and general information.

• Hazardous material transport role (shipper, carrier, or both).

• Geographic area of business.

• Understanding of and ability to satisfy pilot test requirements and data needs.

• Technology of e-system(s).

• Capability of e-system(s) (scalability, accessibility, etc.).

• Equipment and process for transmitting data.

• Format of electronic data exchange.

• Class(es) of HM being shipped.

• Type of shipments(s) (less than truck load, bulk, etc.).

• Shipment route information (origin, destination, etc.).

• Mode(s) of transport associated with shipment(s).

PHMSA does not anticipate that completing the participant questions will impose a significant burden on shipper and carrier respondents. PHMSA estimates no more than 80 regulated entities (including those that have already replied to the web announcement and the additional volunteers that may reply to this Notice) will be asked to answer a list of shipper and carrier participant questions. PHMSA estimates it will take each respondent approximately 30 minutes to answer the list of participant questions. The resulting estimated total burden is 40 hours (80 respondents × 0.5 hour per respondent = 40 hours) for the shipper and carrier participant question data collection.

5. Request for Information (Following Selection of Pilot Test Participants)

PHMSA is seeking to collect: (1) Information and data as part of the pilot tests to support evaluation; and (2) data and information outside of the pilot tests for analyzing potential impacts (safety, security, benefits, and costs) of using e-systems.

PHMSA understands that this information collection effort may impose a burden on respondents. The information obtained will:

• Assist the agency in improving safety, hazard communication products, and/or hazard communication materials, and in potentially reducing current burden hours for completing shipping papers;

• Be provided strictly on a voluntary basis; and

• Be collected primarily utilizing on-line questions with answers to most questions designed to be “yes,” “no,” or multiple choice.

Volunteer modal inspectors and emergency responders will be responsible for conducting inspection and emergency response simulations and the majority of the data collection during the pilot tests. This approach limits the information burden on regulated entities, while minimizing information bias. Modal inspectors (typically law enforcement) will test the feasibility and effectiveness of e-systems by performing simulated modal inspections of regulated entities (shippers and carriers) participating in the pilot tests utilizing e-HM shipping papers. The inspectors will conduct each simulation following their established inspection protocols using their own existing equipment and resources. The only difference during the simulations will be that the shipping paper information will be communicated electronically. Following each inspection simulation, the participating inspector will answer a list of on-line questions related to the simulation and submit to PHMSA a copy of the e-HM shipping paper received. Emergency responders will follow a similar process to test the feasibility and effectiveness of e-systems during a simulated incident response involving HM shipments using electronic shipping papers. PHMSA will use the answers to the on-line questions and the e-HM shipping papers provided by the inspectors and emergency responders to evaluate the feasibility and effectiveness of the e-system involved.

PHMSA plans to administer the questions on-line q, with a maximum of 50 questions, and with answers to most questions designed to be “yes,” “no,” or multiple choice. The following sections summarize the types of information that will be requested as part of the pilot program.

Shipper and Carrier Information

Shippers and carriers will not be required to answer the list of on-line inspection and emergency response simulation questions described in the next section as part the pilot project. However, PHMSA does anticipate that the information provided by inspectors and emergency responders in conducting the simulations may necessitate follow-up discussions with the shippers and/or carriers involved. Limited information may need to be collected from shippers and carriers as a result of these follow-up discussions, potentially including copies of e-HM shipping papers.

PHMSA does not anticipate that follow-up discussions with shippers and carriers and the associated information collection will impose a significant burden on respondents. PHMSA anticipates a total of 30 shippers and carriers (assuming 10 respondents for each of three test regions) and a burden of no more than four hours per shipper and carrier for the entirety of the test period. The resulting estimated total burden is 120 hours (30 respondents × 4.0 hour per respondent = 120 hours) for follow-up discussions and associated information collection with shippers and carriers.

Inspection Simulation Questions

For each hazardous materials inspection simulation, inspectors (law enforcement and/or Federal and state modal inspectors) involved in the simulation will answer a list of online inspection simulation questions and provide an electronic copy of the hazardous materials shipping paper they received during the simulation. Analysis of the e-HM shipping papers for required hazard communication information will enable PHMSA to verify the integrity of the data transfer. PHMSA will provide the list of inspection simulation questions with the 30-day Notice PHMSA will publish in response to comments received to this 60-day Notice. The inspection simulation questions will be designed to collect the following types of information:

• Organization's name and general information.

• Mode of transport inspected during simulation.

• Information about the organization's e-system(s).

• Activity triggering data transfer.

• Process and equipment used for data receipt and transmission.

• Hazardous materials data received from carrier or shipper.

• Hazardous materials data transmitted (to home office, other entity, etc.).

• Electronic data exchange format used.

• Actual time for data receipt (and transmission, if applicable).

• Human involvement.

• “Readability” of data.

• Electronic connectivity.

• Impacts to stakeholders (regulated entities, law enforcement, emergency responders, and the public).

• Impediments to using e-systems.

• Actual and potential benefits realized by stakeholders (regulated entities, law enforcement, emergency responders, and the public).

PHMSA does not anticipate that answering the list of inspection simulation questions will impose a significant burden on inspectors. PHMSA anticipates no more than 240 inspection simulations will be conducted (encompassing all pilot tests, all participants, and each test region throughout the entirety of the test period), resulting in a total of 240 respondents. PHMSA estimates it will take each inspector approximately 60 minutes to answer the list of inspection simulation questions and to submit a copy of the e-HM shipping paper to PHMSA. The resulting estimated total burden is 240 hours (240 respondents × 1.0 hour per respondent = 240 hours) for the inspection simulation question data collection.

Emergency Response Simulation Questions

For each hazardous materials emergency response simulation, emergency response providers and/or investigators involved in the simulation will answer a list of online emergency response simulation questions and provide an electronic copy of the hazardous materials shipping paper as received during the simulation. Analysis of the e-HM shipping papers for required hazard communication information will enable PHMSA to verify the integrity of the data transfer. PHMSA will provide the list of emergency response simulation questions with the 30-day Notice PHMSA will publish in response to comments received to this 60-day Notice. The emergency response simulation questions will be designed to collect the following types of information:

• Organization's name and general information.

• Mode of transport involved in the emergency response simulation.

• Information about the emergency response organization's e-system(s).

• Activity triggering data transfer.

• Process and equipment used for data receipt and transmission.

• Hazardous materials data received from carrier or shipper.

• Hazardous materials data transmitted (to first responders, etc.).

• Electronic data exchange format used.

• Actual time for data receipt (and transmission, if applicable).

• Human involvement.

• “Readability” of data.

• Electronic connectivity.

• Impacts to stakeholders (regulated entities, law enforcement, emergency responders, and the public).

• Impediments to using e-systems.

• Actual and potential benefits realized by stakeholders (regulated entities, law enforcement, emergency responders, and the public).

PHMSA does not anticipate that answering the list of emergency response simulation questions will impose a significant burden on investigators and emergency responders. PHMSA anticipates no more than 12 emergency response simulations will be conducted, resulting in a total of no more than 24 respondents (12 emergency response providers and 12 investigators). PHMSA estimates it will take each respondent approximately 60 minutes to answer the list of emergency response simulation questions and to submit a copy of the electronic shipping paper to PHMSA. The resulting estimated total burden is 24 hours (24 respondents × 1.0 hour per respondent = 24 hours) for the emergency response simulation question data collection.

Impact Analysis Questions

PHMSA is seeking to collect information and data from shippers, carriers, law enforcement, and emergency responders to aid in the assessment of potential impacts associated with using e-systems for each mode of transportation, as required under MAP-21. Potential impacts to be assessed include benefits, costs, safety, and security impacts on the public, emergency responders, and law enforcement. Similar to the pilot test simulation questions, PHMSA is planning to develop a list of impact analysis questions to be administered on-line, with a maximum of 75 questions, with answers to most questions designed to be “yes,” “no,” or multiple choice. PHMSA anticipates the list of impact analysis questions will not be limited to pilot test participants but will be available to all hazardous materials stakeholders to voluntarily answer. PHMSA will post the list of online impact analysis questions to the HM-ACCESS public Web site and distribute to industry via the HM-ACCESS email serve list. PHMSA will provide the list of impact analysis questions with the 30-day Notice PHMSA will publish in response to comments received to this 60-day Notice. The following list summarizes the types of information PHMSA plans to request as part of the impact analysis questions:

• Costs for required technology, including up-front capital costs for equipment and ongoing costs for operations and maintenance (including telecommunications, any third-party service providers, maintenance of equipment, etc.).

• Costs for training personnel.

• Costs for conducting outreach/education to customers on the new approach.

• Changes in administrative costs and time requirements for:

• Generating e-HM shipping papers (vs. current hardcopy approach), including data entry.

• Filing, storing, and retrieving hardcopy shipping papers.

• Coordinating between shipper and carrier and between different carriers/modes in the supply chain (e.g., any changes in the paperwork that is created when a shipment goes from rail to truck).

• Impacts on operations (e.g. transport times, vehicle utilization, employee productivity, etc.).

• Any associated changes to other business processes (e.g., switching from paper to electronic invoices) and their costs/impacts.

• Changes in error rates for shipping papers.

• Information on the administrative, business, training, equipment, and operational-related costs and benefits associated with implementing e-system(s).

• Insurance and risk management issues/cost impacts.

• Any associated information that must be included to communicate hazard information.

• Limitation of e-system capability to communicate information and identifying the redundancy if failure exists.

• Information concerning the release of commercially-sensitive information.

• Unintentional release of information from unauthorized access.

PHMSA does not anticipate that answering the list of impact analysis questions will impose a significant burden on respondents (shippers, carriers, law enforcement, and emergency responders). PHMSA estimates no more than 200 respondents will complete the impact analysis questions, and that it will take each respondent approximately 90 minutes to answer the questions. The resulting estimated total burden is 300 hours (200 respondents × 1.5 hours per respondent = 300 hours) for the impact analysis question data collection.

The information previously described is intended to ensure that evaluation and feasibility reports focus on results and include quantitative data on the recommendation and possible implementation of e-systems into the Federal hazardous materials transportation safety program. This information and data will enable PHMSA to more accurately assess the safety and security impacts of using e-systems and to analyze the associated benefits and cost of using the e-systems.

6. Total Information Collection Burden

The total information collection burden for the Paperless Hazard Communication Pilot Program is as follows:

Participant Questions: | 80 respondents × 0.5 hr. | = | 40 hours
Shipper and Carrier Information: | 30 respondents × 4.0 hr. | = | 120 hours
Inspection Questions: | 240 respondents × 1.0 hr. | = | 240 hours
Emergency Response Questions: | 24 respondents × 1.0 hr. | = | 24 hours
Impact Analysis Questions: | 200 respondents × 1.5 hr. | = | 300 hours
Total Information Collection Burden: | 574 respondents |  | 724 hours

Title: Paperless Hazard Communications Pilot Program.

Type of Request: Request for Comments to Information Collection Burden for Paperless Hazard Communications Pilot Program.

Abstract: PHMSA is submitting an information collection to OMB in support of a paperless hazard communications pilot program under Title III, Section 33005 of the Hazardous Materials Transportation Safety Improvement Act of 2012 (MAP-21).

Affected Public: Carriers, Shippers, Emergency Response Providers, and Law Enforcement Personnel

Estimated Number of Respondents: 574.

Estimated Number of Responses: 574.

Estimated Annual Burden Hours: 724.

Estimated Annual Burden Costs: $24,300.

Frequency of collection: Single occasion.

Issued in Washington, DC, on July 16, 2013.
Magdy El-Sibaie,
Associate Administrator for Hazardous Materials Safety.

[FR Doc. 2013-17363 Filed 7-18-13; 8:45 am]

BILLING CODE 4910-60-P